ENVIRONMENTAL PROTECTION AGENCY

[FRL-10009-53-Region 10]

Final Reissuance of NPDES General Permit for Concentrated Animal Feeding Operations in Idaho (IDG010000)

AGENCY: Environmental Protection Agency (EPA).

ACTION: Final reissuance of NPDES general permit.

SUMMARY: The Director of the Water Division, Environmental Protection Agency (EPA), Region 10, is reissuing the National Pollutant Discharge Elimination System (NPDES) General Permit for Concentrated Animal Feeding Operations (CAFOs) located in Idaho, excluding facilities in Indian Country. The General Permit authorizes discharges of wastewater from CAFOs. The previous permit NPDES General Permit for CAFOs in Idaho expired on May 8, 2017. This permit will transfer to the State of Idaho in July 2020 as part of the phased implementation of Idaho's administration of the NPDES program. The EPA will remain the permitting authority for CAFO facilities located in Indian Country in Idaho.

DATES: The issuance date of the General Permit is May 13, 2020. The General Permit will be effective on June 15, 2020 and will expire on June 14, 2025.

¹ Burden is the total time, effort, or financial resources expended by persons to generate, maintain, retain, or disclose or provide information to or for a Federal agency. For further explanation of what is included in the information collection burden, refer to Title 5 Code of Federal Regulations 1320.3.

² Commission staff estimates that the industry's skill set and cost (for wages and benefits) for FERC-561 are approximately the same as the Commission's average cost. The FERC 2019 average salary plus benefits for one FERC full-time equivalent (FTE) is $167,091/year (or $80.00/hour).

ADDRESSES: Copies of the general permits, Fact Sheet and Response to Comments are available upon request. Written requests may be submitted to: Water Division; USEPA Region 10; 1200 Sixth Avenue, Suite 155, WD19-C04; Seattle, WA 98101-3188. These documents can be accessed online on the EPA Region 10 website at: https://www.epa.gov/npdes-permits/npdes-general-permit-concentrated-animal-feeding-operations-cafos-idaho.

FOR FURTHER INFORMATION CONTACT: Requests may be made to Audrey Washington at (206) 553-0523 or to Nicholas Peak at (208) 378-5765. Requests may also be electronically mailed to: washington.audrey@epa.gov, or peak.nicholas@epa.gov.

SUPPLEMENTARY INFORMATION:

I. General Information

All animal feeding operations (AFOs) that meet the regulatory definition of a CAFO and are subject to 40 CFR part 412 are eligible for coverage under the permit, excluding facilities in Indian Country. Eligible CAFOs may apply for authorization under the terms and conditions of the permit by submitting a Notice of Intent (NOI) and nutrient management plan (NMP). Upon receipt, the EPA will review the NOI and NMP to ensure that all permit requirements are met. If the EPA makes a preliminary determination that the NOI is complete, the NOI, NMP, and draft terms of the NMP to be incorporated into the permit will be made available for a thirty (30) day public review and comment period.

If determined appropriate by the EPA, CAFOs will be granted coverage under the permit upon written notification by the EPA.

The EPA received 81 comments from six different organizations/entities during the public comment period which extended from October 23, 2019 through December 9, 2019. A Response to Comments document was prepared to respond to public comments received and explain any changes made to the draft general permit to produce the final general permit. The EPA received the final State CWA 401 certification on April 8, 2020.

The EPA has completed a Biological Evaluation for these Permit actions. Consultation under the Endangered Species Act between the EPA and the National Marine Fisheries Service and the U.S. Fish and Wildlife Service has been completed. The Services concurred on the EPA's determination that the Permit actions are not likely to adversely affect species listed under the Endangered Species Act or designated critical habitat.

II. Other Legal Requirements

This action was submitted to the Office of Management and Budget (OMB) for review under Executive Orders 12866, Regulatory Planning and Review, and 13563, Improving Regulation and Regulatory Review, and was determined to be not significant.

Dated: May 7, 2020.
Daniel D. Opalski,
Director, Water Division, Region 10.

[FR Doc. 2020-10227 Filed 5-12-20; 8:45 am]

BILLING CODE 6560-50-P